DEPARTMENT OF ENERGY

Federal Energy Regulatory Commission

Combined Notice of Filings #1

Take notice that the Commission received the following electric rate filings:

Docket Numbers: ER10-1342-004; ER10-1886-007; ER17-742-001.

Applicants: CP Bloom Wind LLC, CP Energy Marketing (US) Inc., Decatur Energy Center, LLC.

Description: Supplement to July 21, 2017 Notice of Change in Status and Limited Request for Privileged Treatment of CP Bloom Wind LLC, et al.

Filed Date: 10/2/17.

Accession Number: 20171002-5321.

Comments Due: 5 p.m. ET 10/23/17.

Docket Numbers: ER10-2564-007; ER10-2600-007; ER10-2289-007; EL17-9-000.

Applicants: Tucson Electric Power Company, UNS Electric, Inc., UniSource Energy Development Company, Central Hudson Gas & Electric Corporation.

Description: Amendment to October 17, 2016 Notification of Changes in Status of Tucson Electric Power Company, et al.

Filed Date: 9/25/17.

Accession Number: 20170925-5121.

Comments Due: 5 p.m. ET 10/16/17.

Docket Numbers: ER17-2583-000.

Applicants: Southwest Power Pool, Inc.

Description: Informational Filing of True-Up and Final Rellocation of Revenue Requirements for the Balanced Portfolio of Southwest Power Pool, Inc.

Filed Date: 9/29/17.

Accession Number: 20170929-5330.

Comments Due: 5 p.m. ET 10/20/17.

Docket Numbers: ER18-12-000.

Applicants: Midcontinent Independent System Operator, Inc., Northern States Power Company, a Minnesota corporation.

Description: § 205(d) Rate Filing: 2017-10-02_Filing to revise NSP Attachment O for Abandoned Plant Incentive to be effective 12/1/2017.

Filed Date: 10/2/17.

Accession Number: 20171002-5246.

Comments Due: 5 p.m. ET 10/23/17.

Docket Numbers: ER18-13-000.

Applicants: PPL Electric Utilities Corporation, PJM Interconnection, L.L.C.

Description: § 205(d) Rate Filing: PPL Electric submits ECSA, SA No. 4809 with MAIT to be effective 10/3/2017.

Filed Date: 10/2/17.

Accession Number: 20171002-5298.

Comments Due: 5 p.m. ET 10/23/17.

Docket Numbers: ER18-14-000.

Applicants: Sierra Pacific Power Company.

Description: § 205(d) Rate Filing: Rate Schedule No. 27—Annual BPA-GTA Update 2017 to be effective 10/31/2017.

Filed Date: 10/2/17.

Accession Number: 20171002-5299.

Comments Due: 5 p.m. ET 10/23/17.

Docket Numbers: ER18-15-000.

Applicants: Westwood Generation, LLC.

Description: Compliance filing: Westwood Generation, LLC Informational Filing and Request for Waiver to be effective 10/27/2017.

Filed Date: 10/2/17.

Accession Number: 20171002-5318.

Comments Due: 5 p.m. ET 10/23/17.

Docket Numbers: ER18-16-000.

Applicants: Southwest Power Pool, Inc.

Description: § 205(d) Rate Filing: Southwestern Public Service Company Formula Rate Revisions to be effective 10/20/2014.

Filed Date: 10/3/17.

Accession Number: 20171003-5032.

Comments Due: 5 p.m. ET 10/24/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 3, 2017,
Nathaniel J. Davis, Sr.,
Deputy Secretary.

[FR Doc. 2017-21726 Filed 10-6-17; 8:45 am]

BILLING CODE 6717-01-P